DEPARTMENT OF DEFENSE

Office of the Secretary

[Docket ID DOD-2009-OS-0019]

Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This Action will be effective without further notice on March 12, 2009, unless comments are received that would result in a contrary determination.

ADDRESSES: Send comments to the FOIA/PA Program Manager, Corporate Communications and Legislative Liaison, Defense Finance and Accounting Service, 8899 East 56th Street, Indianapolis, IN 46249-0150.

FOR FURTHER INFORMATION CONTACT: Ms. Linda Krabbenhoft at (303) 589-3510.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on February 4, 2009, to the House Committee on Government Reform, the Senate Committee on Governmental Affairs, and the Office of Management and Budget (OMB) pursuant to paragraph 4c of Appendix I to OMB Circular No. A-130, ‘Federal Agency Responsibilities for Maintaining Records about Individuals,’ dated December 12, 2000, 65 FR 239.

Dated: February 4, 2009.
Morgan E. Frazier,
Alternate OSD Federal Register Liaison Officer, Department of Defense.

T4165

SYSTEM NAME:

DFAS Transportation Incentive Program Records.

SYSTEM LOCATION(S):

Defense Finance and Accounting Service, Attn: Support Services, 8899 E. 56th Street, Indianapolis, IN 46246-0201.

Defense Finance and Accounting Service—Limestone, 27 Arkansas Road, Limestone, ME 04751-1500.

Defense Finance and Accounting Service—TSO Patuxent River, 22299 Exploration Park Drive, Lexington Park, MD 20653-2051.

Defense Finance and Accounting Service—TSO Pensacola, 250 Raby Avenue, Pensacola, FL 32509-5122.

Defense Finance and Accounting Service—Rome, 325 Brooks Road, Rome, NY 13441-4527.

Defense Finance and Accounting Service, DFAS—Texarkana, P.O. BOX 611, Texarkana, Texas 75505-6111.

Categories Of Individuals Covered By The System:

Defense Finance and Accounting Service (DFAS) civilian employees, active duty military and reservist on active duty for more than 30 days.

Categories Of Records In The System:

Name, Social Security Number, home address and telephone number.

Authority For Maintenance Of The System:

5 U.S.C. 301, Departmental Regulations; 5 U.S.C. 7905, Programs to Encourage Commuting by Means other than Single-Occupancy Motor Vehicles; E.O. 12191, Federal Facility Ride Sharing Program; E.O. 13150, Federal Workforce Transportation and E.O. 9397 (SSN).

PURPOSE(S):

In support of the DFAS Transportation Incentive Program for receipt and processing of employee applications and distribution of the fare media; to reimburse participants; to track the use of funds used to support the program; to evaluate employee participation in the program and to prevent misuse of the funds involved for participants outside the National Capitol Region (NCR). Participant records may be used by the DFAS site parking authorities for the purpose of identifying those individuals who receive a fare subsidy and also make use of a DFAS site parking sticker.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To U.S. Department of Transportation for the purposes of administering the Public Transportation Benefit Program and/or verifying the eligibility of individuals to receive a fare subsidy pursuant to transportation benefit program operated by the DoD or other Federal agencies.

The DoD ‘Blanket Routine Uses’ set forth at the beginning of the DFAS compilation of systems of records notices apply to this system of records.

POLICIES AND PRACTICES FOR STORING, RETRIEVING, ACCESSING, RETAINING, AND DISPOSING OF RECORDS IN THE SYSTEM:

STORAGE:

Records are stored on paper forms and on electronic storage media.

RETRIEVABILITY:

Name and last 4 digits of the Social Security Number (SSN).

SAFEGUARDS:

Records are stored in an office building protected by guards, controlled screening, use of visitor registers, electronic access, and/or locks. Access to records is limited to individuals who are properly screened and cleared on a need to know basis in the performance of their duties. User IDs and passwords are used to control access to the system data, and procedures are in place to deter and detect browsing and unauthorized access.

RETENTION AND DISPOSAL:

Documents relating to the disbursement of transportation subsidies to employees, including applications of employees no longer in the program, superseded applications, certification logs, vouchers, spreadsheets, and other forms used to document the disbursement of subsidies are destroyed when 3 years old. Documents relating to cash reimbursements for transportation expenses associated with transit passes or vanpools, specifically Standard Form (SF) 1164, entitled “Claim for Reimbursement for Expenditures on Official Business” are destroyed 6 years and 3 months after period covered by account.

SYSTEM MANAGER(S) AND ADDRESS:

Defense Finance and Accounting Service, Transportation Incentive Program (TIP) Manager, Defense Finance and Accounting Service, Attn: Support Services, 8899 E. 56th Street, Indianapolis, IN 46249-0201.

NOTIFICATION PROCEDURE:

Individuals seeking to determine whether information about themselves is contained in this record system should address written inquiries to the Defense Finance and Accounting Service, Freedom of Information/Privacy Act Program Manager, Corporate Communications and Legislative Liaison, 8899 E. 56th Street, Indianapolis, IN 46249-0150.

Individuals should furnish full name, Social Security Number (SSN), current address and telephone number.

RECORD ACCESS PROCEDURES:

Individuals seeking access to information about themselves contained in this system should address written inquiries to Defense Finance and Accounting Service, Freedom of Information/Privacy Act Program Manager, Corporate Communications and Legislative Liaison, 8899 E. 56th Street, Indianapolis, IN 46249-0150.

Individuals should furnish full name, Social Security Number (SSN), current address and telephone number.

CONTESTING RECORD PROCEDURES:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

RECORD SOURCE CATEGORIES:

From the individual.

EXEMPTIONS CLAIMED FOR THE SYSTEM:

None.

[FR Doc. E9-2787 Filed 2-9-09; 8:45 am]

BILLING CODE 5001-06-P